TENNESSEE VALLEY AUTHORITY

Sunshine Act Meetings

TIME AND DATE: 10 a.m. on May 6, 2021.

PLACE: Please use the following link for the live stream of meeting: https://tva.com/board/watch.

STATUS: Open, via live streaming only.

MATTERS TO BE CONSIDERED:

Meeting No. 21-02

The TVA Board of Directors will hold a public meeting on May 6, 2021. Due to the ongoing risks associated with the COVID-19 outbreak, the meeting will be conducted via teleconference. The meeting will be called to order at 10 a.m. ET to consider the agenda items listed below. TVA Board Chair John Ryder and TVA management will answer questions from the news media following the Board meeting.

Public health concerns also require a change to the Board's public listening session. Although in-person comments from the public are not feasible, the Board is encouraging those wishing to express their opinions to submit written comments that will be provided to the Board members before the May 6 meeting. Written comments can be submitted through the same online system used to register to speak at previous listening sessions.

Agenda

1. Approval of minutes of the February 11, 2021 Board Meeting

2. Report of the People and Performance Committee

3. Report of the External Relations Committee

4. Report of the Audit, Risk, and Regulation Committee

5. Report of the Nuclear Oversight Committee

6. Report of the Finance, Rates, and Portfolio Committee

7. Report from President and CEO

A. Guiding Principles for TVA's Values and Strategic Priorities

8. Information Items

A. Changes to Long-Term Incentive Plan Performance Goals

B. Compensation Plan Amendments

CONTACT PERSON FOR MORE INFORMATION: For more information: Please call Jim Hopson, TVA Media Relations at (865) 632-6000, Knoxville, Tennessee. Anyone who wishes to comment on any of the agenda in writing may send their comments to: TVA Board of Directors, Board Agenda Comments, 400 West Summit Hill Drive, Knoxville, Tennessee 37902.

Dated: April 29, 2021.
Edward C. Meade,
Agency Liaison.

[FR Doc. 2021-09478 Filed 4-30-21; 4:15 pm]

BILLING CODE 8120-08-P